DEPARTMENT OF ENERGY

Federal Energy Regulatory Commission

[Docket No. RT01-75-000]

Entergy Services, Inc., on Behalf of the Entergy Operating Companies, et al.; Notice of Filing

October 20, 2000.

Take notice that on October 16, 2000, Entergy Services, Inc., on behalf of the Entergy Operating Companies: Entergy Arkansas, Inc., Entergy Gulf States, Inc., Entergy Louisiana, Inc., Entergy Mississippi, Inc., and Entergy New Orleans, Inc. tendered for filing pursuant to FPA sections 203 and 205 an Application for Approval of a Regional Transmission Organization and Approval of the Transfer of Transmission Assets to a Regional Transmission Organization (the Application). The Application states that it is the first phase of Entergy's compliance with Order No. 2000.

Any person desiring to be heard or to protest such filing should file a motion to intervene, comments, or protests with the Federal Energy Regulatory Commission, 888 First Street, NE, Washington, DC 20426, in accordance with Rules 211 and 214 of the Commission's Rules of Practice and Procedure (18 CFR 385.211 and 385.214). All such motions, comments and protests should be filed on or before November 20, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-27550 Filed 10-25-00; 8:45 am]

BILLING CODE 6717-01-M